DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground. Modified | Communities affected
Jackson County, Illinois, and Incorporated Areas
Docket No.: FEMA-B-7724
Big Muddy River | Approximately 4,050 ft above South 20th Street | +372 | Jackson County (Unincorporated Areas).
| Approximately 4,810 ft above North Cleveland Street | +375
Crab Orchard Creek | Approximately 100 feet downstream of Helm Road | +380 | Jackson County (Unincorporated Areas).
| Approximately 1,500 feet South of Dillinger Road | +383
Drury Creek | Approximately 1,500 feet north of the termination of Church Street | +434 | Jackson County (Unincorporated Areas).
| Approximately 700 feet south of the intersection of Giant City Road and Springer Ridge Road | +437
Mississippi River | Approximately 900 feet downstream of Grand Tower Road extended | +370 | City of Grand Tower.
| Approximately 720 feet above 25th Street extended | +371
| Approximately at Muntz Road Alignment (Mouth of Big Muddy River) Union/Jackson County Boundary | +368 | Village of Gorham, Jackson County (Unincorporated Areas).
| Approximately at Levee Road (Mouth of Degognia Creek) Randolph/Jackson County Boundary | +383
North Fork | 280 feet east of 8th Street | +387 | Jackson County (Unincorporated Areas).
| 200 feet east of 8th Street | +388
North Tributary | Approximately at the railroad | +402 | Jackson County (Unincorporated Areas).
| Approximately at Town Road (West Road) | +402
Pond Creek | Approximately at the railroad crossing at the North boundary of Murphysboro | +399 | Jackson County (Unincorporated Areas).
| Approximately at Cochran Road | +401
South Tributary | East of Roosevelt Street (US 51) | +394 | Jackson County (Unincorporated Areas).
| At Town Road (West Road) | +403 |
* National Geodetic Vertical Datum.
+ North American Vertical Datum.
# Depth in feet above ground.
ADDRESSES
City of Grand Tower
Maps are available for inspection at 201 Market Street, Grand Tower City Hall, Grand Tower, IL 62942.
Jackson County (Unincorporated Areas)
Maps are available for inspection 20 South 10th Street, County Assessment Officer, Murphysboro, IL 62966.
Village of Gorham
Maps are available for inspection at 306 Washington Street, Gorham City Hall, Gorham, IL 62940.
Union County, Illinois, and Incorporated Areas
Docket No.: FEMA-B-7724
Mississippi River | Alexander/Union County Boundary, approximately 3,000 feet upstream of the Mouth of Picayune Chute in Alexander County | +354 | Union County (Unincorporated Areas).
| Approximately 5,480 feet above Muddy Levee Road | +369 |
* National Geodetic Vertical Datum.
+ North American Vertical Datum.
# Depth in feet above ground.
ADDRESSES
Union County (Unincorporated Areas)
Maps are available for inspection at 311 West Market Street, Union County Clerk, Jonesboro, IL 62952.
Rutherford County, North Carolina and Incorporated Areas
Docket No.: FEMA-D-7714
Arrowood Branch | At the confluence with McKinney Creek | +708 | Unincorporated Areas of Rutherford County.
| Approximately 0.7 mile upstream of the confluence with McKinney Creek | +723
Beaverdam Creek (near State Road 1733) | At the confluence with First Broad River | +1,035 | Unincorporated Areas of Rutherford County.
| Approximately 600 feet upstream of Old C C Road (State Road 1731) | +1,449
Big Camp Creek | At the confluence with Second Broad River | +862 | Unincorporated Areas of Rutherford County.
| Approximately 970 feet upstream of Frog Creek Road | +984
Big Horse Creek | At the confluence with Broad River | +697 | Unincorporated Areas of Rutherford County.
| Approximately 1.1 miles upstream of State Line Road (State Road 2105) | +749
Big Spring Branch | At the confluence with Second Broad River | +815 | Town of Forest City.
| Approximately 230 feet downstream of East Trade Street | +974
Bills Creek | At the confluence with Cove Creek | +868 | Unincorporated Areas of Rutherford County, Town of Lake Lure.
| Approximately 1,300 feet upstream of Shumont Estates Drive | +1,206
Tributary 2 | At the confluence with Bills Creek | +991 | Unincorporated Areas of Rutherford County.
| Approximately 800 feet upstream of Brookside Parkway | +1,243
Tributary 3 | At the confluence with Bills Creek | +1,056 | Unincorporated Areas of Rutherford County.
| Approximately 1.4 miles upstream of Bills Creek Road (State Road 1008) | +1,239
Bowen Branch | At the confluence with Sandy Run | +865 | Unincorporated Areas of Rutherford County.
| Approximately 1,300 feet upstream of Gene Walker Road (State Road 1763) | +875
Box Creek | At the confluence with Second Broad River | +953 | Unincorporated Areas of Rutherford County.
| Approximately 0.7 mile upstream of the confluence with Second Broad River | +1,010
Bracketts Creek | At the confluence with Floyds Creek | +781 | Town of Forest City, Unincorporated Areas of Rutherford County.
| Approximately 490 feet upstream of Withrow Road | +973
Tributary 5 | At the confluence with Bracketts Creek | +902 | Town of Forest City.
| Approximately 0.4 mile upstream of South Church Street | +941
Tributary 8 | At the confluence with Bracketts Creek | +955 | Town of Forest City.
| Approximately 0.4 mile upstream of Oak Street | +980
Brier Creek | At the confluence with First Broad River | +962 | Unincorporated Areas of Rutherford County.
| Approximately 1,700 feet upstream of the confluence of Pot Branch | +1,120
Broad River | At the Rutherford/Cleveland County boundary | +680 | Village of Chimney Rock, Town of Lake Lure, Unincorporated Areas of Rutherford County.
| At the Rutherford/Henderson County boundary | +1,411
Tributary 6 | At the confluence with Broad River | +694 | Unincorporated Areas of Rutherford County.
| Approximately 1,700 feet upstream of Island Ford Road | +697
Buck Branch (into Second Broad River) | At the confluence with Second Broad River | +818 | Unincorporated Areas of Rutherford County, Town of Forest City.
| Approximately 300 feet downstream of West Trade Street | +949
Buck Branch (into West Fork Sandy Run) | At the Rutherford/Cleveland County boundary | +801 | Unincorporated Areas of Rutherford County.
| Approximately 0.7 mile upstream of Rutherford/Cleveland County boundary | +820
Buffalo Creek (into Lake Lure) | At the confluence with Broad River | +998 | Unincorporated Areas of Rutherford County, Town of Lake Lure.
| Approximately 7.0 miles upstream of confluence with the Broad River | +2,818
Tributary 1 | At the confluence with Buffalo Creek (Lake Lure) | +1,192 | Unincorporated Areas of Rutherford County, Town of Lake Lure.
| Approximately 2.3 miles upstream of Buffalo Creek Road (State Road 1314) | +2,795
Cane Creek | At the confluence with Second Broad River | +855 | Unincorporated Areas of Rutherford County.
| At the Rutherford/McDowell County boundary | +975
Cane Creek (into Broad River) | At the confluence with Broad River | +693 | Unincorporated Areas of Rutherford County.
| Approximately 0.5 mile upstream of the confluence with Broad River | +694
Cane Creek (into Lake Lure) | At the confluence with Broad River | +998 | Unincorporated Areas of Rutherford County, Town of Lake Lure.
| Approximately 0.5 mile upstream of Girl Scout Camp Road (State Road 1186) | +1,354
Catheys Creek | At the confluence with Second Broad River | +829 | Unincorporated Areas of Rutherford County.
| Approximately 0.5 mile upstream of Thermal City Road (State Road 1321) | +1,051
Tributary 16 | At the confluence with Catheys Creek | +872 | Unincorporated Areas of Rutherford County.
| Approximately 0.4 mile upstream of the confluence with Catheys Creek | +878
Cedar Creek | At the confluence with Cove Creek | +877 | Unincorporated Areas of Rutherford County.
| Approximately 1,200 feet upstream of the confluence of Taylor Creek | +1,154
Tributary 3 | At the confluence with Cedar Creek | +1,032 | Unincorporated Areas of Rutherford County.
| Approximately 0.9 mile upstream of the confluence with Cedar Creek | +1,151
Charles Creek | At the confluence with Cleghorn Creek | +755 | Unincorporated Areas of Rutherford County.
| Approximately 0.5 mile upstream of the confluence with Cleghorn Creek | +755
Cherry Creek | At the confluence with Catheys Creek | +913 | Unincorporated Areas of Rutherford County.
| Approximately 500 feet upstream of Railroad | +951
Cleghorn Creek | At the confluence with Broad River | +755 | Unincorporated Areas of Rutherford County, Town of Rutherfordton.
| Approximately 0.5 mile upstream of Reece Street | +953
Tributary 10 | At the confluence with Cleghorn Creek | +865 | Town of Rutherfordton.
| Approximately 50 feet downstream of West 3rd Street | +910
Tributary 11 | At the confluence with Cleghorn Creek | +868 | Town of Rutherfordton.
| Approximately 20 feet downstream of Laurel Drive | +1,041
Tributary 12 | At the confluence with Cleghorn Creek | +892 | Town of Rutherfordton.
| Approximately 0.8 mile upstream of the confluence with Cleghorn Creek | +988
Tributary 13 | At the confluence with Cleghorn Creek | +898 | Town of Rutherfordton.
| Approximately 0.4 mile upstream of North Main Street/U.S. Highway 221 | +954
Tributary 7 | At the confluence with Cleghorn Creek | +795 | Unincorporated Areas of Rutherford County, Town of Rutherfordton.
| Approximately 1,000 feet upstream of Hugh Street | +990
Tributary 9 | At the confluence with Cleghorn Creek | +832 | Unincorporated Areas of Rutherford County, Town of Rutherfordton.
| Approximately 150 feet downstream of NC Highway 108 | +886
Copper Mine Branch | At the confluence with Morrow Creek | +804 | Unincorporated Areas of Rutherford County, Town of Forest City.
| Approximately 800 feet upstream of Fairview Street | +953
Cove Creek | At the confluence with Broad River | +836 | Unincorporated Areas of Rutherford County.
| Approximately 1.0 mile upstream of Painters Gap Road (State Road 1328) | +1,129
Crawley Branch | At the confluence with Big Camp Creek | +936 | Unincorporated Areas of Rutherford County.
| Approximately 1,800 feet upstream of the confluence with Big Camp Creek | +947
Dills Creek | At the confluence with Broad River | +714 | Unincorporated Areas of Rutherford County.
| Approximately 0.8 mile upstream of the confluence with Broad River | +716
Duncans Creek | At the Rutherford/Cleveland County boundary | +914 | Unincorporated Areas of Rutherford County.
| Approximately 2.2 miles upstream of Duncans Creek Road (State Road 1749) | +987
East Branch Mountain Creek | At the confluence with Mountain Creek and West Branch Mountain Creek | +823 | Unincorporated Areas of Rutherford County.
| Approximately 350 feet downstream of Piney Knob Road (State Road 1331) | +981
First Broad River | Approximately 1,000 feet downstream of the Rutherford/Cleveland County boundary | +931 | Unincorporated Areas of Rutherford County.
| Approximately 1,400 feet upstream of Golden Valley Church Road (State Road 1726) | +1,110
Floyds Creek | At the confluence with Broad River | +699 | Unincorporated Areas of Rutherford County.
| Approximately 500 feet upstream of Sunset Memorial Road (State Road 2179) | +941
Frasheur Creek | At the confluence with Greasy Creek | +1,125 | Unincorporated Areas of Rutherford County.
| At the Rutherford/McDowell County boundary | +1,152
Goodes Creek | At the confluence with Broad River | +695 | Unincorporated Areas of Rutherford County.
| Approximately 400 feet upstream of Island Ford Road | +695
Grab Branch | At the confluence with Floyds Creek | +886 | Unincorporated Areas of Rutherford County.
| Approximately 90 feet downstream of U.S. 221S Highway | +943
Tributary 1 | At the confluence with Grab Branch | +924 | Unincorporated Areas of Rutherford County.
| Approximately 900 feet upstream of Burch Hutchins Road (State Road 2171) | +944
Grays Creek | At the confluence with Broad River | +747 | Unincorporated Areas of Rutherford County.
| Approximately 1.1 miles upstream of confluence with Broad River | +762
Greasy Creek | At the confluence with Cove Creek | +1,125 | Unincorporated Areas of Rutherford County.
| At the Rutherford/McDowell County boundary | +1,153
Grog Creek | At the Rutherford/Cleveland County boundary | +833 | Unincorporated Areas of Rutherford County.
| Approximately 600 feet upstream of U.S. Highway 74 Bypass | +892
Heaveners Creek | At the confluence with Roberson Creek | +902 | Unincorporated Areas of Rutherford County.
| Approximately 200 feet downstream of Joe Bostic Road (State Road 1712) | +915
Hensons Creek | At the confluence with Broad River | +720 | Unincorporated Areas of Rutherford County.
| Approximately 20 feet upstream of County Line Road (State Road 1101) | +822
Hills Creek | At the confluence with Second Broad River | +722 | Unincorporated Areas of Rutherford County.
| Approximately 290 feet upstream of Dobbins Road | +825
Hinton Creek | At the Rutherford/Cleveland County boundary | +979 | Unincorporated Areas of Rutherford County.
| Approximately 200 feet upstream of Hinton Creek Road (State Road 1753) | +1,054
Holland Creek | At the confluence with Second Broad River | +792 | Unincorporated Areas of Rutherford County.
| Approximately 450 feet upstream of Old Caroleen Road (State Road 1901) | +807
| At the confluence with Catheys Creek | +836 | Unincorporated Areas of Rutherford County, Town of Ruth, Town of Rutherfordton, Town of Spindale.
| Approximately 1,800 feet upstream of U.S. Highway 221 | +950
Tributary 4 | At the confluence with Hollands Creek | +909 | Unincorporated Areas of Rutherford County, Town of Ruth.
| Approximately 500 feet upstream of Shady Woods Lane | +959
Hunting Creek | At the confluence with Roberson Creek | +875 | Unincorporated Areas of Rutherford County.
| Approximately 250 feet upstream of Depriest Road (State Road 1713) | +1,067
Jarrets Creek | At the confluence with Broad River | +727 | Unincorporated Areas of Rutherford County.
| Approximately 0.5 mile upstream of the confluence with Broad River | +744
Knob Creek (into Broad River) | At the confluence with Broad River | +816 | Unincorporated Areas of Rutherford County.
| Approximately 800 feet upstream of McEntire Road (State Road 1341) | +921
Tributary 11 | At the confluence with Knob Creek (into Broad River) | +874 | Unincorporated Areas of Rutherford County.
| Approximately 0.5 mile upstream of Pleasant Grove Road (State Road 1345) | +1,070
Tributary 9 | At the confluence with Knob Creek (into Broad River) | +862 | Unincorporated Areas of Rutherford County.
| Approximately 0.6 mile upstream of McEntire Road (State Road 1341) | +1,006
Little Camp Creek | At the confluence with Big Camp Creek | +870 | Unincorporated Areas of Rutherford County.
| Approximately 0.4 mile upstream of Old Morganton Road (State Road 1513) | +926
Maple Creek | At the confluence with Mountain Creek | +784 | Unincorporated Areas of Rutherford County.
| Approximately 200 feet upstream of U.S. 64/74A Highway | +903
McKinney Creek | At the confluence with Broad River | +705 | Unincorporated Areas of Rutherford County.
| Approximately 1,500 feet upstream of Ted Smith Road (State Road 1104) | +789
Mill Creek (into Catheys Creek) | At the confluence with Catheys Creek | +957 | Unincorporated Areas of Rutherford County.
| Approximately 0.8 mile upstream of the confluence with Catheys Creek | +967
Morrow Creek | At the confluence with Second Broad River | +803 | Unincorporated Areas of Rutherford County, Town of Forest City.
| Approximately 0.8 mile upstream of Pine Street (State Road 1903) | +873
Mountain Creek | At the confluence with Broad River | +758 | Unincorporated Areas of Rutherford County.
| At the confluence with East Branch Mountain Creek and West Branch Mountain Creek | +823
Tributary 16 | At the confluence with Mountain Creek | +816 | Unincorporated Areas of Rutherford County.
| Approximately 1.0 mile upstream of Clearwater Parkway | +954
Mountain Creek Tributary of Tributary 16 | At the confluence with Mountain Creek Tributary 16 | +834 | Unincorporated Areas of Rutherford County, Town of Rutherfordton.
| Approximately 700 feet downstream of Thompson Road (State Road 1367) | +987
North Fork First Broad River | At the confluence with First Broad River | +1,082 | Unincorporated Areas of Rutherford County.
| Approximately 1.5 miles upstream of the confluence of Sally Queen Creek | +1,397
Piney Creek | At the confluence with Cedar Creek | +895 | Unincorporated Areas of Rutherford County.
| Approximately 310 feet upstream of the confluence of Piney Creek Tributary 1 | +982
Tributary 1 | At the confluence with Piney Creek | +967 | Unincorporated Areas of Rutherford County.
| Approximately 0.7 mile upstream of Bills Creek Road (State Road 1008) | +1,328
Piney Knob Creek | At the confluence with West Branch Mountain Creek | +879 | Unincorporated Areas of Rutherford County.
| Approximately 300 feet upstream of Elliott Road (State Road 1348) | +908
Pool Creek | At the confluence with Broad River (Lake Lure) | +998 | Town of Lake Lure.
| Approximately 1,900 feet upstream of Bottomless Pools Drive | +1,122
Pot Branch | At the confluence with Brier Creek | +1,102 | Unincorporated Areas of Rutherford County.
| Approximately 2.3 miles upstream of the confluence with Brier Creek | +1,415
Puzzle Creek | At the confluence with Second Broad River | +804 | Unincorporated Areas of Rutherford County, Town of Bostic.
| Approximately 200 feet upstream of Piney Mountain Church Road (State Road 1007) | +893
Reynolds Creek | At the confluence with Hollands Creek | +897 | Unincorporated Areas of Rutherford County, Town of Spindale.
| Approximately 0.6 mile upstream of West Street | +1,046
Richardson Creek | At the confluence with Broad River | +705 | Unincorporated Areas of Rutherford County.
| Approximately 100 feet upstream of Sulphur Springs Church Road (State Road 1135) | +807
Roberson Creek | At the confluence with Second Broad River | +825 | Unincorporated Areas of Rutherford County, Town of Bostic.
| Approximately 200 feet upstream of Calton Road (State Road 1745) | +1,056
Rosy Branch | At the confluence with Taylor Creek | +1,962 | Unincorporated Areas of Rutherford County.
| Approximately 1.5 miles upstream of Twin Chimneys Road | +2,727
Sally Queen Creek | At the confluence with North Fork First Broad River | +1,292 | Unincorporated Areas of Rutherford County.
| Approximately 2.2 miles upstream of the confluence with North Fork First Broad River | +1,706
Sandy Run | At the Rutherford/Cleveland County boundary | +835 | Unincorporated Areas of Rutherford County.
| Approximately 150 feet upstream of Hopewell Road (State Road 1760) | +906
Second Broad River | At the confluence with Broad River | +680 | Unincorporated Areas of Rutherford County, Town of Forest City.
| Approximately 1.9 miles upstream of Box Creek Road (State Road 1500) | +990
Tributary 7 | At the confluence with Second Broad River | +750 | Unincorporated Areas of Rutherford County.
| Approximately 1.4 miles upstream of Old Henrietta Road (State Road 2129) | +786
Tributary 8 | At the confluence with Second Broad River | +758 | Unincorporated Areas of Rutherford County.
| Approximately 40 feet upstream of Chime Lane | +799
Somey Creek | At the confluence with First Broad River | +1,110 | Unincorporated Areas of Rutherford County.
| Approximately 400 feet upstream of Camp McCall Road (State Road 1749) | +1,231
South Creek | At the confluence with First Broad River | +1,075 | Unincorporated Areas of Rutherford County.
| Approximately 1.3 miles upstream of Golden Valley Church Road (State Road 1726) | +1,121
Stoney Creek | At the confluence with Second Broad River | +974 | Unincorporated Areas of Rutherford County.
| Approximately 1,400 feet upstream of Thermal City Road (State Road 1321) | +1,001
Suck Creek (into Broad River) | Approximately 1.1 miles downstream of Kirby Road | +769 | Unincorporated Areas of Rutherford County.
| Approximately 300 feet upstream of Kirby Road (State Road 1978) | +779
Taylor Creek | At the confluence with Cedar Creek | +1,147 | Unincorporated Areas of Rutherford County.
| Approximately 0.5 mile upstream of the confluence of Rosy Branch | +2,009
Tributary 1 | At the confluence with Taylor Creek | +1,841 | Unincorporated Areas of Rutherford County.
| Approximately 0.6 mile upstream of Bison Meadows | +2,535
Webbs Branch | At the confluence with Second Broad River | +805 | Town of Forest City.
| Approximately 0.4 mile upstream of Railroad | +907
Webbs Creek | At the confluence with Second Broad River | +789 | Unincorporated Areas of Rutherford County.
| Approximately 340 feet upstream of U.S. Highway 74 | +833
West Branch Mountain Creek | At the confluence with East Branch Mountain Creek and Mountain Creek | +823 | Unincorporated Areas of Rutherford County.
| Approximately 0.6 mile upstream of Darlington Road (State Road 1351) | +884
West Fork Sandy Run | At the Rutherford/Cleveland County boundary | +801 | Unincorporated Areas of Rutherford County.
| Approximately 1,000 feet upstream of Hollis Road (State Road 1749) | +901
Tributary 7 | At the confluence with West Fork Sandy Run | +825 | Unincorporated Areas of Rutherford County.
| Approximately 0.9 mile upstream of the confluence with West Fork Sandy Run | +842
* National Geodetic Vertical Datum.
+ North American Vertical Datum.
# Depth in feet above ground.

(Catalog of Federal Domestic Assistance No. 97.022, “Flood Insurance.”)

Dated: January 3, 2008.
David I. Maurstad,
Federal Insurance Administrator of the National Flood Insurance Program, Department of Homeland Security, Federal Emergency Management Agency.

[FR Doc. E8-695 Filed 1-15-08; 8:45 am]

BILLING CODE 9110-12-P